DEPARTMENT OF HEALTH AND HUMAN SERVICES

National Institutes of Health

Proposed Collection; Comment Request; Survey of NIGMS Minority Opportunities in Research (MORE) Division Institutional Program Directors

SUMMARY: In compliance with the requirement of Section 3506(c)(2)(A) of the Paperwork Reduction Act of 1995, for opportunity for public comment on proposed data collection projects, the National Institute of General Medical Sciences (NIGMS), the National Institutes of Health (NIH) will publish periodic summaries of proposed projects to be submitted to the Office of Management and Budget (OMB) for review and approval.

Proposed Collection: Title: Survey of NIGMS Minority Opportunities in Research (MORE) Division Institutional Program Directors. Type of Information Collection Request: New collection. Need and Use of Information Collection: NIGMS provides research and research training support in the basic biomedical sciences through a variety of programs and grant mechanisms. Several of these programs are targeted toward support of underrepresented minority students at various educational levels and research faculty at minority-serving institutions. Although significant resources are dedicated to funding these programs, there is a lack of quantitative information on program outcomes. With this submission, NIGMS seeks to obtain OMB's approval to conduct a survey of the institutional program directors in the following programs: Minority Access to Research Careers Undergraduate Student Training in Academic Research (U*STAR), Minority Biomedical Research Support Initiative for Minority Student Development (IMSD), and Minority Biomedical Research Support Research Initiative for Scientific Enhancement (RISE). Information collected in the survey will include data on student enrollment and highest degree received.

This proposed one-time survey is part of a larger study that will provide NIGMS with the high-quality data needed to evaluate the educational outcomes and research activity of students and faculty who are supported by NIGMS training and research support programs. Other data will be collected from existing sources, including grant records and Medline databases. Taken together, the data will be used as a baseline for future assessments, as well to further develop current programs and in the creation of proposals for new initiatives in minority recruitment and training. These results will be reported to the National Advisory General Medical Sciences Council (NAGMSC) and shared with the community of NIGMS grantees. The survey is planned to launch in July 2005 and to be in the field for two months. Frequency of Response: Once. Affected Public: Individuals or households; Not-for-profits. Type of Respondents: Training grant program directors.

The annual reporting burden is as follows:

Type and number of respondents | Estimated number of responses per respondent | Estimated total responses | Average burden hours per responses | Estimated total annual burden hours requested
Training Grant Program Directors 150 | 1 | 150 | 20 minutes | 50

Total Number of Respondents: 150.

Total Number of Responses: 150.

Total Hours: 50.

The annualized cost to respondents is estimated at: $1,650.

There are no capital costs, operating costs, and/or maintenance costs to report.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Dr. James Onken, NIGMS, NIH, Natcher Building, Room 2AN-32F, 45 Center Drive, MSC 6200, Bethesda, MD 20892-6200, or call non-toll-free number 301-594-2762 or e-mail your request, including your address to: OnkenJ@nigms.nih.gov.

Comments Due Date: Comments regarding this information collection are best assured of having their full effect if received within 60-days of the date of this publication.

Dated: February 10, 2005.
Martha Pine,
Associate Director for Administration and Operations, National Institute of General Medical Sciences, National Institutes of Health.

[FR Doc. 05-3353 Filed 2-18-05; 8:45 am]

BILLING CODE 4140-01-P